DEPARTMENT OF ENERGY

Federal Energy Regulatory Commission

Notice of Refund Report

| Docket Nos.
Marion County Solar Farm I LLC | EL20-6-000.
Marion County Solar Farm II LLC | QF20-83-000.
Taylor County Solar LLC | QF20-84-000.
Plum Solar Farm | QF20-85-000.
Stillmore Solar Farm LLC | QF20-86-000.
Taylor Solar LLC | QF20-87-000.
Fulton Mill Solar Farm LLC | QF20-88-000.
Cook Solar LLC | QF20-89-000.
| QF20-90-000.
| QF20-91-000.
| QF20-92-000.
| QF20-93-000.
| QF20-94-000.
| QF20-95-000.
| QF20-96-000.
| QF20-97-000.
| QF20-98-000.
| QF20-99-000.
| QF20-100-000.
| QF20-101-000.
| QF20-102-000.
| QF20-103-000.
| QF20-104-000.
| QF20-105-000.
| QF20-106-000.
| QF20-107-000.
| QF20-108-000.
| QF20-109-000.
| QF20-110-000.
| QF20-111-000.
| QF20-112-000.
| QF20-113-000.
| QF20-114-000.
| QF20-115-000.
| QF20-116-000.
| QF20-117-000.
| QF20-118-000.
| QF20-119-000.
| QF20-120-000.
| QF20-121-000.
| QF20-122-000.
| QF20-123-000.
| QF20-124-000.
| QF20-125-000.
| QF20-126-000.

Take notice that on October 2, 2020, Marion County Solar Farm I LLC, Marion County Solar Farm II LLC, Taylor County Solar LLC, Plum Solar Farm LLC, Stillmore Solar Farm LLC, Taylor Solar LLC, Fulton Mill Solar Farm LLC, Cook Solar LLC, (jointly, Petitioners), submitted a Refund Report associated with a number of small qualifying facilities pursuant to the Federal Energy Regulatory Commission's August 20, 2020 Order.¹

¹ Marion County Solar Farm I LLC, et al., 172 FERC 61,154 (2020).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioners.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern time on October 23, 2020.

Dated: October 5, 2020.
Nathaniel J. Davis, Sr.,
Deputy Secretary.

[FR Doc. 2020-22445 Filed 10-8-20; 8:45 am]

BILLING CODE 6717-01-P